DEPARTMENT OF THE INTERIOR

National Park Service

Notice of Proposed National Natural Landmark Designation for Ashfall Fossil Beds, Antelope County, NE

AGENCY: National Park Service, Interior.

ACTION: Notice of proposed National Natural Landmark designation.

SUMMARY: The National Park Service Director has determined that Ashfall Fossil Beds, located near Orchard in Antelope County, Nebraska, appears to meet the criteria for national significance and proposes to recommend the site for designation as a National Natural Landmark. The public is invited to comment on this recommendation. This proposal will be considered by the National Park System Advisory Board at a meeting to be held on March 21 and 22, 2006, at Timucuan Ecological and Historic Preserve, in the Ribault Club, 11241 Fort George Rd., Jacksonville, Florida.

DATES: Written comments will be accepted by the National Park Service until March 21, 2006.

ADDRESSES: Written comments should be sent to Dr. Margaret Brooks, National Natural Landmarks Program Manager, National Park Service, 255 N. Commerce Park Loop, Tucson, Arizona 85745, or Internet address: Margi_Brooks@nps.gov.

FOR FURTHER INFORMATION CONTACT: Margaret Brooks at 520-670-6501, extension 232.

SUPPLEMENTARY INFORMATION: Ashfall Fossil Beds is the only location on earth where large numbers of fossil mammals have been found as whole, three-dimensionally preserved skeletons. A thick bed of volcanic ash contains hundreds of complete skeletons of extinct rhinos, camels, three-toed horses and many other vertebrates lying in their death poses in an ancient waterhole. The animals were killed and buried by ash from an enormous volcanic eruption some 10 million years ago. This site is a Nebraska State Historical Park and is open to the public. Information on the National Natural Landmarks Program can be found in 36 CFR part 62 or on the Internet at http://www.nature.nps.gov/nnl.

Dated: January 17, 2006.
Fran P. Mainella,
Director, National Park Service.

[FR Doc. 06-546 Filed 1-19-06; 8:45 am]

BILLING CODE 4312-52-P